DEPARTMENT OF VETERANS AFFAIRS

[OMB Control No. 2900-NEW]

Proposed Information Collection Activity: Proposed Collection; Comment Request

AGENCY: Veterans Health Administration, Department of Veterans Affairs

ACTION: Notice

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on the information needed to determine whether Agent Orange exposure has significantly affected the health of those exposed and whether genetic predisposition played a role in the outcome of the exposure.

DATES: Written comments and recommendations on the proposed collection of information should be received on or before May 26, 2000.

ADDRESSES: Submit written comments on the collection of information to Ann W. Bickoff, Veterans Health Administration (193B1), Department of Veterans Affairs, 810 Vermont Avenue, NW, Washington, DC 20420. Please refer to “OMB Control No. 2900-NEW” in any correspondence.

FOR FURTHER INFORMATION CONTACT: Ann W. Bickoff at (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: The Association of Agent Orange Exposure with Adverse Outcomes, VA Forms 10-21035a (NR) and 10-21035b (NR).

OMB Control Number: 2900-NEW.

Type of Review: New collection.

Abstract: The purpose of this study is to determine whether Agent Orange exposure has significantly affected the health of those exposed and whether genetic predisposition has played a significant role in the outcome of the exposure.

Affected Public: Individuals or households.

Estimated Annual Burden:

a. VA Form 10-21035a—250 hours.

b. VA Form 10-21035b—250 hours.

Estimated Average Burden Per Respondent:

a. VA Form 10-21035a—15 minutes.

b. VA Form 10-21035b—15 minutes.

Frequency of Response: One time.

Estimated Number of Respondents: 1,000.

Dated: March 15, 2000.
By direction of the Secretary.
Sandra McIntyre,
Management Analyst, Information Management Service.

[FR Doc. 00-7358 Filed 3-24-00; 8:45 am]

BILLING CODE 8320-01-P